DEPARTMENT OF JUSTICE

Drug Enforcement Administration

[Docket No. DEA-392]

Manufacturer of Controlled Substances Registration: Apertus Pharmaceuticals

ACTION: Notice of registration.

SUMMARY: Apertus Pharmaceuticals applied to be registered as a manufacturer of certain basic classes of controlled substances. The Drug Enforcement Administration (DEA) grants Apertus Pharmaceuticals registration as a manufacturer of those controlled substances.

SUPPLEMENTARY INFORMATION:

By notice dated October 2, 2015, and published in the Federal Register on October 13, 2015, 80 FR 61470, Apertus Pharmaceuticals, 331 Consort Drive, Ballwin, Missouri 63011 applied to be registered as a manufacturer of certain basic classes of controlled substances. No comments or objections were submitted for this notice.

The DEA has considered the factors in 21 U.S.C. 823(a) and determined that the registration of Apertus Pharmaceuticals to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the following basic classes of controlled substances:

Controlled Substance | Schedule
Marihuana (7360) | I
Tetrahydrocannabinols (7370) | I
Remifentanil (9739) | II

The company plans to manufacture the above-listed controlled substances in bulk for distribution to its customers. In reference to drug codes 7360 marihuana and 7370 tetrahydrocannabinols the company plans to bulk manufacture both as synthetic substances. No other activity for these drug codes is authorized for this registration.

Dated: January 11, 2016.
Louis J. Milione,
Deputy Assistant Administrator.

[FR Doc. 2016-00778 Filed 1-15-16; 8:45 am]

BILLING CODE 4410-09-P